DEPARTMENT OF LABOR

Employment and Training Administration

[TA-W-39,218; TA-W-39,218A]

Compaq Computers, Houston, TX and Flextronics International, San Jose, CA; Notice of Termination of Investigation

Pursuant to Section 221 of the Trade Act of 1974, an investigation was initiated on May 7, 2001 in response to a petition filed on April 23, 2001 on behalf of workers at Compaq Computers, Offline System Support, Houston, Texas; and, Flextronics International, Offline System Support, San Jose, California.

The petitioning workers were not employees of either of the subject firms on the date of their separation. Therefore it is determined that the petition is invalid, and the investigation has been terminated.

Signed in Washington, DC this 25th day of June, 2001.
Edward A. Tomchick,
Certifying Officer, Division of Trade Adjustment Assistance.

[FR Doc. 01-16850 Filed 7-3-01; 8:45 am]

BILLING CODE 4510-30-M